DEPARTMENT OF LABOR

Employment and Training Administration

Proposed Information Collection Request (ICR) for the Impact Evaluation of the YouthBuild Program; New Collection

AGENCY: Employment and Training Administration (ETA), Labor.

ACTION: Notice.

SUMMARY: The Department of Labor (DOL or Department), as part of its continuing effort to reduce paperwork and respondent burden, conducts a preclearance consultation program to provide the general public and other Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA, and displays a currently valid OMB control number, and the public is not required to respond to a collection of information unless it displays a currently valid OMB control number. Also, notwithstanding any other provisions of law, no person shall be subject to penalty for failing to comply with a collection of information if the collection of information does not display a currently valid OMB control number. See 5 CFR 1320.5(a) and 1320.6.

A copy of the proposed ICR can be obtained by contacting the office listed below in the addressee section of this notice or by accessing: http://www.doleta.gov/OMBCN/OMBControlNumber.cfm.

DATES: Written comments must be submitted to the office listed in the addresses section below on or before April 9, 2012.

ADDRESSES: Send comments to Eileen Pederson, U.S. Department of Labor, Employment and Training Administration, Office of Policy Development and Research, 200 Constitution Avenue NW., Frances Perkins Bldg., Room N-5641, Washington, DC 20210. Telephone number (202) 693-3647 (this is not a toll-free number). Email address: Pederson.eileen@dol.gov. Fax number: (202) 693-2766 (this is not a toll-free number).

SUPPLEMENTARY INFORMATION:

I. Background

The Impact Evaluation of the YouthBuild Program is a seven-year, experimental design evaluation, funded by the Department's Employment and Training Administration and the Corporation for National and Community Service (CNCS). YouthBuild is a youth and community development program that addresses several core issues facing low-income communities: Youth education, employment, criminal behavior, social and emotional development and affordable housing. The program primarily serves high school dropouts and focuses on helping them attain a high school diploma or general educational development certificate, and teaching them construction skills geared toward career placement. The evaluation will measure core program participant outcomes including educational attainment, postsecondary planning, employment, earnings, delinquency and involvement with the criminal justice system, and youth social and emotional development. The evaluation represents an important opportunity for DOL and CNCS to add to the growing body of knowledge about the impacts of “second chance” programs for youth who have dropped out of high school. Compared to peers who remain in school, high school dropouts are more likely to be disconnected from school and work, be incarcerated, be unmarried, and have children outside of marriage. The target population for the program, and correspondingly the study, is out-of-school youth, aged 16-24, from low-income families or in foster care and who are offenders, migrants, disabled or children of incarcerated parents.

The evaluation of the YouthBuild program will address the following research questions:

• Operation: How is YouthBuild designed in each participating site? What are the key implementation practices that affect how the program operates? How does the local context affect program implementation and the services available to members of the control group?

• Participation: What are the characteristics of youth who enroll in the study? How are these characteristics shaped by YouthBuild recruitment and screening practices?

• Impacts: What are YouthBuild's impacts on educational attainment, planning, and aspirations? What are YouthBuild's impacts on employment, earnings, and job characteristics? What are YouthBuild's impacts on crime and delinquency? What are the program's impacts on social-emotional development, identity development, and self-regulation?

• Costs: How does the net cost per participant compare with the impacts the program generates?

The contract to conduct an independent, rigorous evaluation was awarded in June 2010. MDRC, the prime contractor, is working with Mathematica Policy Research and Social Policy Research Associates, to design and implement the evaluation, which will continue until 2017. The evaluation consists of an implementation component, an impact component and a cost-effectiveness component. The entire universe of 2011 DOL and CNCS-funded YouthBuild grantees will participate in the implementation component of the evaluation. Of the universe of grantees, the study team will recruit 84 randomly-selected grantees (60 DOL-funded sites and 24 sites that are not funded by DOL but do receive funding from CNCS) for the study's impact component. DOL will seek to enroll 3,465 eligible participants in those sites into the study. Study participants will be randomly assigned to either the treatment group, which will be eligible for YouthBuild services, or to the control group which will not be eligible. Follow-up data will be collected from all study participants for up to four years after random assignment.

This data collection request includes qualitative information about program operations and cost data to be collected during the proposed site visits to the 84 sites participating in the impact component of the evaluation. These visits will include classroom observations to assess the quality of instruction, youth focus groups, semi-structured in-depth interviews with program staff and collection of cost data to ascertain the cost of the program.

At this time, clearance is requested for the site visit data collection instruments.

II. Review Focus

Currently, the Department is soliciting comments concerning the above data collection for the Impact Evaluation of the YouthBuild Program. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

III. Current Actions

At this time, ETA is requesting clearance for the data collection instruments to be used during the proposed site visits to a select group of 2011 DOL and CNCS-funded YouthBuild grantees. In addition, ETA is requesting a waiver of the 60-day notice requirement for the participant follow-up survey package.

Agency: Employment and Training Administration.

Type of Review: New information collection request.

OMB Number: 1205-0NEW.

Affected Public: Disadvantaged youth and DOL- and CNCS-funded YouthBuild Programs.

Cite/Reference/Form/etc: Workforce Investment Act, Section 172.

For the Site Visit Interview Protocols:

Frequency: Once.

Total Respondents: 1,008 respondents (12 respondents in each of 84 YouthBuild sites).

Average Time per Response: 60 minutes per respondent (1 hour).

Estimated Total Burden Hours: 1,008 hours (= 1,008 respondents × 1 hour).

For the Cost Data Collection Worksheet:

Frequency: Once.

Total Respondents: 84 respondents (one respondent in each of 84 YouthBuild sites).

Average Time per Response: 120 minutes per respondent (2 hours).

Estimated Total Burden Hours: 168 hours (= 84 respondents × 2 hours).

For the Youth Focus Group Questionnaire:

Frequency: Once.

Total Respondents: 231 respondents (an average of 5.5 respondents in each of 42 YouthBuild sites, one-half of the sites participating in the evaluation).

Average Time per Response: 60 minutes per respondent (1 hour).

Estimated Total Burden Hours: 231 hours (= 231 respondents × 1 hour).

For the Individual Youth Questionnaire:

Frequency: Once.

Total Respondents: 84 respondents (two in each of 42 YouthBuild sites, one-half of the sites participating in the evaluation).

Average Time per Response: 45 minutes per respondent (.75 hour).

Estimated Total Burden Hours: 63 hours (= 84 respondents × 45 minutes ÷ 60 minutes). Note that, due to rounding, the total amounts may differ from the sum of the components.

Comments submitted in response to this request will be summarized and/or included in the request for OMB approval; they will also become a matter of public record.

Signed: at Washington, DC, this 2nd day of February, 2012.
Jane Oates,
Assistant Secretary for Employment and Training.

[FR Doc. 2012-2850 Filed 2-7-12; 8:45 am]

BILLING CODE 4510-FN-P